FEDERAL TRADE COMMISSION

16 CFR Part 312

Children’s Online Privacy Protection Rule Safe Harbor Proposed Self-Regulatory Guidelines; i-SAFE, Inc. Application for Safe Harbor

AGENCY: Federal Trade Commission (FTC or Commission)

ACTION: Notice announcing submission of proposed “safe harbor” guidelines and requesting public comment.

SUMMARY: The Federal Trade Commission publishes this notice and request for public comment concerning proposed self-regulatory guidelines submitted by i-SAFE, Inc. under the safe harbor provision of the Children’s Online Privacy Protection Rule.

FOR FURTHER INFORMATION CONTACT: Mamie Kresses, Attorney, (202) 326-2070, Division of Advertising Practices, Federal Trade Commission, Washington, D.C. 20580.

DATES: Written comments must be received by March 1, 2010.

ADDRESSES: Interested parties are invited to submit written comments electronically or in paper form, by following the instructions in the Invitation To Comment part of the SUPPLEMENTARY INFORMATION section below. Comments in electronic form should be submitted by using the following weblink: (https://public.commentworks.com/ftc/iSAFEsafeharbor) (and following the instructions on the web-based form). Comments in paper form should be mailed or delivered to the following address: Federal Trade Commission, Office of the Secretary, Room H-135 (Annex E), 600 Pennsylvania Avenue, NW, Washington, DC 20580, (202) 326-2252.

SUPPLEMENTARY INFORMATION:

Section A. Background

On October 20, 1999, the Commission issued its final Rule¹ pursuant to the Children’s Online Privacy Protection Act, 15 U.S.C. 6501, et seq, which became effective on April 21, 2000.² The Rule requires certain website operators to post privacy policies, provide notice, and obtain parental consent prior to collecting, using, or disclosing personal information from children. The Rule contains a “safe harbor” provision enabling industry groups or others to submit to the Commission for approval self-regulatory guidelines that would implement the Rule’s protections.³

¹ 64 FR 59888 (1999).

² 16 C.F.R. Part 312.

³ See 16 C.F.R. § 312.10; 64 FR at 59906-59908, 59915.

Pursuant to Section 312.10 of the Rule, iSAFE has submitted proposed self-regulatory guidelines to the Commission for approval. The full text of the proposed guidelines is available on the Commission’s website, at (www.ftc.gov/bcp/isafesafeharborapplication.pdf).

Section B. Questions on the Proposed Guidelines

The Commission is seeking comment on various aspects of the proposed guidelines, and is particularly interested in receiving comment on the questions that follow. These questions are designed to assist the public and should not be construed as a limitation on the issues on which public comment may be submitted. Responses to these questions should cite the numbers and subsection of the questions being answered. For all comments submitted, please provide any relevant data, statistics, or any other evidence, upon which those comments are based.

1. Please provide comments on any or all of the provisions in the proposed guidelines. For each provision commented on please describe (a) the impact of the provision(s) (including any benefits and costs), if any, and (b) what alternatives, if any, iSAFE should consider, as well as the costs and benefits of those alternatives.

2. Do the provisions of the proposed guidelines governing operators’ information practices provide “the same or greater protections for children” as those contained in Sections 312.2-312.8 of the Rule?⁴ Where possible, please cite the relevant sections of both the Rule and the proposed guidelines.

⁴ See 16 C.F.R. § 312.10(b)(1); 64 FR at 59915.

3. Are the mechanisms used to assess operators’ compliance with the guidelines effective?⁵ If not, please describe (a) how the proposed guidelines could be modified to satisfy the Rule’s requirements, and (b) the costs and benefits of those modifications.

⁵ See 16 C.F.R. § 312.10(b)(2); 64 FR at 59915.

4. Are the incentives for operators’ compliance with the guidelines effective?⁶ If not, please describe (a) how the proposed guidelines could be modified to satisfy the Rule’s requirements, and (b) the costs and benefits of those modifications.

⁶ See 16 C.F.R. § 312.10(b)(3); 64 FR at 59915.

5. Do the guidelines provide adequate means for resolving consumer complaints? If not, please describe (a) how the proposed guidelines could be modified to resolve consumer complaints adequately, and (b) the costs and benefits of those modifications.

Section C. Invitation to Comment

All persons are hereby given notice of the opportunity to submit written data, views, facts, and arguments addressing the proposed self-regulatory guidelines. The Commission invites written comments to assist it in ascertaining the facts necessary to reach a determination as to whether to approve the proposed guidelines. Written comments must be received on or before March 1, 2010, and may be submitted electronically or in paper form. Comments should refer to “iSAFE Safe Harbor Proposal, P094504” to facilitate the organization of comments. Please note that your comment - including your name and your state - will be placed on the public record of this proceeding, including on the publicly accessible FTC website, at (http://www.ftc.gov/os/publiccomments.shtm).

Because comments will be made public, they should not include any sensitive personal information, such as any individual’s Social Security number; date of birth; driver’s license number or other state identification number, or foreign country equivalent; passport number; financial account number; or credit or debit card number. Comments also should not include any sensitive health information, such as medical records or other individually identifiable health information. In addition, comments should not include any “[t]rade secret or any commercial or financial information which is obtained from any person and which is privileged or confidential. . . ,” as provided in Section 6(f) of the Federal Trade Commission Act (“FTC Act”), 15 U.S.C. 46(f), and FTC Rule 4.10(a)(2), 16 CFR 4.10(a)(2). Comments containing material for which confidential treatment is requested must be filed in paper form, must be clearly labeled “Confidential,” and must comply with FTC Rule 4.9(c), 16 CFR 4.9(c).⁷

⁷ The comment must be accompanied by an explicit request for confidential treatment, including the factual and legal basis for the request, and must identify the specific portions of the comment to be withheld from the public record. The request will be granted or denied by the Commission’s General Counsel, consistent with applicable law and the public interest. See FTC Rule 4.9(c), 16 CFR 4.9(c).

Because paper mail addressed to the FTC is subject to delay due to heightened security screening, please consider submitting your comments in electronic form. Comments filed in electronic form should be submitted by using the following weblink: (https://public.commentworks.com/ftc/iSAFEsafeharbor) (and following the instructions on the web-based form). To ensure that the Commission considers an electronic comment, you must file it on the web-based form at the weblink (https://public.commentworks.com/ftc/iSAFEsafeharbor). If this document appears at (http://www.regulations.gov/search/Regs/home.html#home), you may also file an electronic comment through that website. The Commission will consider all comments that regulations.gov forwards to it. You may also visit the FTC Website at (http://www.ftc.gov) to read the document and the news release describing it.

A comment filed in paper form should include the “iSAFE Safe Harbor Proposal, P094504” reference both in the text and on the envelope, and should be mailed or delivered to the following address: Federal Trade Commission, Office of the Secretary, Room H-135 (Annex E), 600 Pennsylvania Avenue, NW, Washington, DC 20580. The FTC is requesting that any comment filed in paper form be sent by courier or overnight service, if possible, because U.S. postal mail in the Washington area and at the Commission is subject to delay due to heightened security precautions.

The FTC Act and other laws the Commission administers permit the collection of public comments to consider and use in this proceeding as appropriate. The Commission will consider all timely and responsive public comments that it receives, whether filed in paper or electronic form. Comments received will be available to the public on the FTC website, to the extent practicable, at (http://www.ftc.gov/os/publiccomments.shtm). As a matter of discretion, the Commission makes every effort to remove home contact information for individuals from the public comments it receives before placing those comments on the FTC Website. More information, including routine uses permitted by the Privacy Act may be found in the FTC’s privacy policy, at (http://www.ftc.gov/ftc/privacy.shtm).

By direction of the Commission.

Donald S. Clark
Secretary

[FR Doc. 2010-291 Filed 1-12-10: 8:45 am]

BILLING CODE 6750-01-S